DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in title 30 of the Code of Federal Regulations.

DATES: All comments on the petitions must be received by the Office of Standards, Regulations and Variances on or before September 4, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-022-C.

Petitioner: Mountain Coal Company, P.O. Box 591, 5174 Highway 133, Somerset, Colorado 81434.

Mine: West Elk Mine, MSHA I.D. No. 05-03672, located in Gunnison County, Colorado.

Regulation Affected: 30 CFR 75.1909(b)(6) (Nonpermissible diesel-powered equipment; design and performance requirements).

Modification Request: The petitioner requests that a previously granted petition for modification, Docket No. M-1999-113-C, be amended. The petitioner proposes to add two additional road Getman graders, model RDG-1504 serial number 7004, and model RDG-1504C serial number 6718. The maximum speed on the Getman graders will be limited to 10 miles per hour or less by blocking out gear ratios that would provide higher speeds. Grader operators will be trained to recognize appropriate levels of speed for different road conditions and slopes. Grader operators will be trained to lower the moldboard (grader blade) to provide additional stopping capability in emergencies.

Within 60 days after the Proposed Decision and Order becomes final, the petitioner will submit proposed revisions for its approved 30 CFR part 48 training plan to the District Manager. These revisions will specify initial and refresher training regarding the terms and conditions in the Proposed Decision and Order.

The petitioner asserts that the additional graders under the existing terms and conditions of the petition for modification will at all times guarantee no less than the same measure of protection afforded by the existing standard.

Docket Number: M-2014-023-C.

Petitioner: ACI Tygart Valley, 1200 Tygart Drive, Grafton, West Virginia 26354.

Mine: Leer Mine, MSHA I.D. No. 46-09192, located in Taylor County, West Virginia.

Regulation Affected: 30 CFR 75.500(d) (Permissible electric equipment).

Modification Request: The petitioner requests a modification of the existing standard to permit an alternative method of compliance to allow the use of nonpermissible low-voltage or battery-powered nonpermissible electronic testing and diagnostic equipment in or inby the last open crosscut. The petitioner states that:

(1) Nonpermissible electronic testing and diagnostic equipment to be used includes: Laptop computers; oscilloscopes; vibration analysis machines; cable fault detectors; point temperature probes; infrared temperature devices; signal analyzer devices; ultrasonic measuring devices; electronic component testers; and electronic tachometers. Other testing and diagnostic equipment may be used if approved in advance by MSHA's district office. Permissible approved voltage measuring instruments are available and will be used when possible.

(2) All other testing and diagnostic equipment used in or inby the last open crosscut will be permissible.

(3) All nonpermissible low-voltage or battery-powered nonpermissible electronic testing and diagnostic equipment used in or inby the last open crosscut will be examined by a qualified person prior to use to ensure the equipment is being maintained in a safe operating condition. These examination results will be recorded and retained for one year and will be made available to MSHA on request.

(4) A qualified person as defined in 30 CFR 75.151 will continuously monitor for methane immediately before and during the use of nonpermissible electronic testing and diagnostic equipment in or inby the last open crosscut.

(5) Nonpermissible electronic testing and diagnostic equipment will not be used if methane is detected in concentrations at or above one percent. When methane is detected while the nonpermissible electronic equipment is being used, the equipment will be deenergized immediately and the nonpermissible electronic equipment withdrawn outby the last open crosscut.

(6) All hand-held methane detectors will be MSHA-approved and maintained in permissible and proper operating condition as defined in 30 CFR 75.320.

(7) Except for time necessary to troubleshoot under actual mining conditions, coal production in the section will cease. However, coal may remain in or on the equipment to test and diagnose the equipment under load. This change will require production to cease except during actual testing. Accumulations of coal and combustible materials referenced in 30 CFR 75.400 will be removed before testing begins to provide additional safety to miners.

(8) Nonpermissible electronic testing and diagnostic equipment will not be used to test equipment when float coal dust is in suspension.

(9) All electronic testing and diagnostic equipment will be used in accordance with the safe use procedures recommended by the manufacturer.

(10) Qualified personnel who use electronic testing and diagnostic equipment will be properly trained to recognize the hazards and limitations associated with use of the equipment.

(11) Any piece of equipment subject to this petition will be inspected by MSHA prior to initially placing it in service underground.

(12) Cables supplying power to low-voltage test and diagnostic equipment will only be used when permissible testing and diagnostic equipment are unavailable.

Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection afforded by the existing standard.

Docket Number: M-2014-024-C.

Petitioner: ACI Tygart Valley, 1200 Tygart Drive, Grafton, West Virginia 26354.

Mine: Leer Mine, MSHA I.D. No. 46-09192, located in Taylor County, West Virginia.

Regulation Affected: 30 CFR 75.507-1(a) (Electric equipment other than power-connection points; outby the last open crosscut; return air; permissibility requirements).

Modification Request: The petitioner requests a modification of the existing standard to permit an alternative method of compliance to allow the use of nonpermissible low-voltage or battery-powered nonpermissible electronic testing and diagnostic equipment in return airways. The petitioner states that:

(1) Nonpermissible electronic testing and diagnostic equipment to be used includes: Laptop computers; oscilloscopes; vibration analysis machines; cable fault detectors; point temperature probes; infrared temperature devices; signal analyzer devices; ultrasonic measuring devices; electronic component testers; and electronic tachometers. Other testing and diagnostic equipment may be used if approved in advance by MSHA's district office. Permissible approved voltage measuring instruments are available and will be used when possible.

(2) All other testing and diagnostic equipment used in return airways will be permissible.

(3) All nonpermissible low-voltage or battery-powered nonpermissible electronic testing and diagnostic used in return airways will be examined by a qualified person prior to use to ensure the equipment is being maintained in a safe operating condition. These examination results will be recorded and retained for one year and will be made available to MSHA on request.

(4) A qualified person as defined in 30 CFR 75.151 will continuously monitor for methane immediately before and during the use of nonpermissible electronic testing and diagnostic equipment in return airways.

(5) Nonpermissible electronic testing and diagnostic equipment will not be used if methane is detected in concentrations at or above one percent. When methane is detected while the nonpermissible electronic equipment is being used, the equipment will be deenergized immediately and the nonpermissible electronic equipment will be withdrawn out of return airways.

(6) All hand-held methane detectors will be MSHA-approved and maintained in permissible and proper operating condition as defined in 30 CFR 75.320.

(7) Except for time necessary to troubleshoot under actual mining conditions, coal production in the section will cease. However, coal may remain in or on the equipment to test and diagnose the equipment under load. This change will require production to cease except during actual testing. Accumulations of coal and combustible materials referenced in 30 CFR 75.400 will be removed before testing begins to provide additional safety to miners.

(8) Nonpermissible electronic testing and diagnostic equipment will not be used to test equipment when float coal dust is in suspension.

(9) All electronic testing and diagnostic equipment will be used in accordance with the safe use procedures recommended by the manufacturer.

(10) Qualified personnel who use electronic testing and diagnostic equipment will be properly trained to recognize the hazards and limitations associated with use of the equipment.

(11) Any piece of equipment subject to this petition will be inspected by MSHA prior to initially placing it in service underground.

(12) Cables supplying power to low-voltage test and diagnostic equipment will only be used when permissible testing and diagnostic equipment are unavailable.

Within 60 days after the Proposed Decision and Order becomes final, the petitioner will submit proposed revisions for its approved 30 CFR part 48 training plan to the District Manager. The revisions will specify initial and refresher training regarding the terms and conditions in the Proposed Decision and Order.

The petitioner asserts that the proposed alternative method in this will at all times guarantee no less than the same measure of protection afforded by the existing standard.

Docket Number: M-2014-025-C.

Petitioner: ACI Tygart Valley, 1200 Tygart Drive, Grafton, West Virginia 26354.

Mine: Leer Mine, MSHA I.D. No. 46-09192, located in Taylor County, West Virginia.

Regulation Affected: 30 CFR 75.1002(a) (Installation of electric equipment and conductors; permissibility).

Modification Request: The petitioner requests a modification of the existing standard to permit an alternative method of compliance to allow the use of nonpermissible low-voltage or battery-powered nonpermissible electronic testing and diagnostic equipment within 150 feet of pillar workings. The petitioner states that:

(1) Nonpermissible electronic testing and diagnostic equipment to be used includes: Laptop computers; oscilloscopes; vibration analysis machines; cable fault detectors; point temperature probes; infrared temperature devices; signal analyzer devices; ultrasonic measuring devices; electronic component testers; and electronic tachometers. Other testing and diagnostic equipment may be used if approved in advance by MSHA's district office. Permissible approved voltage measuring instruments are available and will be used when possible.

(2) All other testing and diagnostic equipment used within 150 feet of pillar workings or longwall faces will be permissible.

(3) All nonpermissible low-voltage or battery-powered nonpermissible electronic testing and diagnostic equipment used within 150 feet of pillar workings will be examined by a qualified person prior to use to ensure the equipment is being maintained in a safe operating condition. These examination results will be recorded and retained for one year and will be made available to MSHA on request.

(4) A qualified person as defined in 30 CFR 75.151 will continuously monitor for methane immediately before and during the use of nonpermissible electronic testing and diagnostic equipment within 150 feet of pillar workings.

(5) Nonpermissible electronic testing and diagnostic equipment will not be used if methane is detected in concentrations at or above one percent. When methane is detected while the nonpermissible electronic equipment is being used, the equipment will be deenergized immediately and the nonpermissible electronic equipment will be withdrawn further than 150 feet from pillar workings.

(6) All hand-held methane detectors will be MSHA-approved and maintained in permissible and proper operating condition as defined in 30 CFR 75.320.

(7) Except for time necessary to troubleshoot under actual mining conditions, coal production in the section will cease. However, coal may remain in or on the equipment to test and diagnose the equipment under load. This change will require production to cease except during actual testing. Accumulations of coal and combustible materials referenced in 30 CFR 75.400 will be removed before testing begins to provide additional safety to miners.

(8) Nonpermissible electronic testing and diagnostic equipment will not be used to test equipment when float coal dust is in suspension.

(9) All electronic testing and diagnostic equipment will be used in accordance with the safe use procedures recommended by the manufacturer.

(10) Qualified personnel who use electronic testing and diagnostic equipment will be properly trained to recognize the hazards and limitations associated with use of the equipment.

(11) Any piece of equipment subject to this petition will be inspected by MSHA prior to initially placing it in service underground.

(12) Cables supplying power to low-voltage test and diagnostic equipment will only be used when permissible testing and diagnostic equipment are unavailable. Within 60 days after the Proposed Decision and Order becomes final, the petitioner will submit proposed revisions for its approved 30 CFR part 48 training plan to the District Manager. The revisions will specify initial and refresher training regarding the terms and conditions in the Proposed Decision and Order.

The petitioner asserts that the proposed alternative method will at all times guarantee no less than the same measure of protection afforded by the existing standard.

Docket Number: M-2014-006-M.

Petitioner: Martin Marietta Kansas City, LLC, 1099 18th Street, Suite 2150, Denver, Colorado 80202.

Mine: Randolph Deep Mine, MSHA I.D. No. 23-02308, located in Reynolds County, Missouri.

Regulation Affected: 30 CFR 57.11052(d) (Refuge areas).

Modification Request: The petitioner requests a modification of the existing standard to permit the use of compressed air or oxygen in canisters, cylinders, or bottles in lieu of compressed air lines and the use of sealed bottled water supply in lieu of waterlines in the Randolph Deep Mine. The petitioner states that:

(1) The Randolph Mine is an underground limestone mine. The active workings are accessed from the surface via twin declines, located adjacent to one another and each 6750 feet long.

(2) On the current mining level, there is no surface access that would make it feasible for air or waterlines from the surface to reach the current mine workings.

(3) Compressed air is not in use underground except for small air compressors in the maintenance facilities.

(4) Potable water is currently supplied via bottled water to the underground workings. Due to the length of air and waterline required from the mine portals (i.e., 6750 feet) and the potential of damage to either or both lines during an emergency, the required method would not provide adequate protection for the miners.

The petitioner proposes to:

(a) Use a refuge chamber made of steel. The refuge chamber has inside dimensions of 8 feet wide x 19.5 feet long x 7.75 feet high for a total of 1209 cubic feet of space or 156 square feet of floor space. This refuge chamber will be located on the mining level within a 30-minute walking distance from the working face. The refuge chamber will be equipped for a maximum of 20 miners. This capacity exceeds the normal work crew on any given day.

(b) Use compressed air to the following specifications:

(i) Only grade D breathing air will be supplied;

(ii) A supply of no less than 2880 liters of compressed air per day per person for a minimum of 4 days will be provided;

(iii) Cylinders will be stored in a safe manner and in compliance with MSHA standards 30 CFR 57.16005 and 57.16006, away from flammable and combustible materials;

(iv) A regulator system for regulating the flow of compressed air at a rate of 2 liters per minute per person will be provided with the refuge chamber supplies, and an extra regulator will be kept within the refuge chamber;

(v) Equipment designed for monitoring the oxygen and carbon dioxide level of the ambient air in the refuge chamber will be provided with the refuge chamber supplies;

(vi) The condition and pressure of the cylinders will be inspected on a monthly basis;

(vii) Tools and any repair parts recommended by the manufacturer for the compressed air system will be kept within the refuge chamber; and

(viii) A ball valve air vent will be installed in the wall of the refuge chamber to relieve pressure buildup from the use of the compressed air inside the chamber.

(c) In the alternative, the refuge chamber will be equipped with a compressed oxygen supply to the following specifications:

(i) Only medical or airline quality (United States Pharmacopeia) oxygen will be supplied in refuge chambers;

(ii) A supply of no less than 550 liters of oxygen per day per person for a minimum of 4 days will be provided;

(iii) Oxygen cylinders will be stored in a safe manner, in compliance with MSHA standards 30 CFR 57.16005 and 57.16006, away from flammable and combustible materials;

(iv) An oxygen regulator for regulating the flow of oxygen and monitoring the reserve available will be provided with the refuge chamber supplies, and an extra oxygen regulator will be kept within the refuge chamber;

(v) Equipment designed for monitoring the oxygen and carbon dioxide level of the ambient air in the refuge chamber will be provided with the refuge chamber supplies. Oxygen levels will not exceed 23 percent inside the refuge chamber;

(vi) The condition and pressure of the cylinders will be inspected on a monthly basis;

(vii) Tools and any repair parts recommended by the manufacturer for the compressed oxygen system will be kept within the refuge chamber;

(viii) An electric-powered CO2 scrubbing system will be included within the refuge chamber which will be provided with a 96 hour battery backup in the event of lost power. Sufficient CO2 scrubbing cartridges will be provided for 20 miners for up to 96 hours to maintain a carbon dioxide level below 1 percent; and

(ix) A ball valve air vent will be installed in the wall of the refuge chamber to relieve pressure buildup from the use of the compressed air inside the chamber.

(d) The oxygen supply and carbon dioxide will be monitored via a hand-held mine gas meter and kept in the refuge chamber with battery backup to ensure availability of use when required. The refuge chamber will be provided with a hand-held mine gas meter for air monitoring and also have a battery-powered mine telephone.

(e) Commercially purchased water will be supplied in sealed individual portion-sized bottles in the refuge chamber. There will be a supply of 2.5 quarts of water per day per person for four days, for a total of 50 gallons minimum, with a shelf life of two years. The condition and quantity of the water will be confirmed by inspection on a monthly basis. Written instructions for conservation of water will be provided with the refuge chamber supplies.

(f) A minimum of 2000 calories of food per person per day sufficient for 20 miners for 96 hours will be included within the refuge chamber.

(g) All miners affected will receive training in the operation of the refuge chamber and will receive refresher training annually.

(h) The refuge chamber will be inspected monthly and documented by the mine Manager or designee.

The petitioner asserts that the proposed alternative method will at all times guarantee no less than the same measure of protection afforded the miners by the existing standard.

Dated: July 31, 2014.
Sheila McConnell,
Acting Director, Office of Standards, Regulations and Variances.

[FR Doc. 2014-18427 Filed 8-4-14; 8:45 am]

BILLING CODE 4510-43-P